DEPARTMENT OF HEALTH AND HUMAN SERVICES

Centers for Disease Control and Prevention

Advisory Committee on Immunization Practices: Notice of Charter Amendment

This gives notice under the Federal Advisory Committee Act (Pub. L. 92-463) of October 6, 1972, that the Advisory Committee on Immunization Practices, Centers for Disease Control and Prevention (CDC), Department of Health and Human Services (HHS), has amended their charter to reflect the change in the filing date. The amended filing date is January 13, 2015.

For information, contact Dr. Larry Pickering, Designated Federal Officer, Advisory Committee on Immunization Practices, HHS, CDC, 1600 Clifton Road NE., Mailstop E05, Atlanta, Georgia 30333, telephone (404) 639-8562 or fax (404) 639-8626.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-01767 Filed 1-29-15; 8:45 am]

BILLING CODE 4163-18-P